DEPARTMENT OF ENERGY

Federal Energy Regulatory Commission

[Project No. 12726-002]

Warm Springs Hydro, LLC; Notice of Application Accepted for Filing, Soliciting Motions To Intervene and Protests, Ready for Environmental Analysis, and Soliciting Comments, Recommendations, Terms and Conditions, and Preliminary Fishway Prescriptions

Take notice that the following hydroelectric application has been filed with the Commission and is available for public inspection.

a. Type of Application: Original minor license.

b. Project No.: P-12726-002.

c. Date filed: April 1, 2019.

d. Applicant: Warm Springs Hydro, LLC (Warm Springs).

e. Name of Project: Rock Creek Hydroelectric Project.

f. Location: The Rock Creek Hydroelectric Project is located on Rock Creek in Haines County, Oregon. The project would occupy 1.8 acres of the Wallowa Whitman National Forest, which is administered by the U.S. Forest Service.

g. Filed Pursuant to: Federal Power Act 16 U.S.C. 791 (a)-825(r).

h. Applicant Contact: Mr. Nicholas E. Josten, GeoSense, 2742 Saint Charles Avenue, Idaho Falls, ID 43404, (208) 528-6152.

i. FERC Contact: Kelly Wolcott at (202) 502-6480; or at kelly.wolcott@ferc.gov.

j. Deadline for filing motions to intervene and protests, comments, recommendations, terms and conditions, and preliminary prescriptions: 60 days from the issuance date of this notice; reply comments are due 105 days from the issuance date of this notice.

The Commission strongly encourages electronic filing. Please file motions to intervene, protests, comments, recommendations, terms and conditions, and preliminary fishway prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-12726-002.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. Project Description: The proposed project would consist of: (1) A new diversion and fish screen on Rock Creek; (2) a new 8,300-foot-long, 18 to 24-inch-diameter low pressure penstock, to be buried in an existing flume right-of-way and ending at the top of the ridge above the power plant site; (3) a new 3,100-foot-long, 20 to 24-inch-diameter high pressure penstock, extending from the end of the low pressure pipeline to the new powerhouse; (4) a new approximately 20-foot-long, 15-foot-wide powerhouse, located adjacent to Rock Creek just above the Wilcox Ditch diversion, containing a single 0.85-megawatt Pelton turbine; and (5) a 500-foot-long 12.5-kilovolt transmission line to deliver energy from the powerhouse to an Oregon Trail Electric Consumers Cooperative distribution line; and (6) appurtenant facilities. The estimated average annual generation is 3,900-megawatt hours.

m. A copy of the application is available for review at the Commission in the Public Reference Room, or may be viewed on the Commission's website at http://www.ferc.gov, using the eLibrary link. Enter the docket number, excluding the last three digits in the docket number field, to access the document. For assistance, contact FERC Online Support. A copy is also available for inspection and reproduction at the address in item h above.

You may register online at http://www.ferc.gov/docs-filing/esubscription.asp to be notified via email of new filings and issuances related to this or other pending projects. For assistance, contact FERC Online Support.

n. Anyone may submit a protest or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on, or before, the specified comment date for the particular application.

All filings must: (1) Bear in all capital letters the title PROTEST, MOTION TO INTERVENE, COMMENTS, REPLY COMMENTS, RECOMMENDATIONS, TERMS AND CONDITIONS, or PRELIMINARY FISHWAY PRESCRIPTIONS; (2) set forth in the heading the name of the applicant and the project number of the application to which the filing responds; (3) furnish the name, address, and telephone number of the person protesting or intervening; and (4) otherwise comply with the requirements of 18 CFR 385.2001 through 385.2005. All comments, recommendations, terms and conditions, or preliminary prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. Warm Springs intends to seek benefits under § 210 of the Public Utility Regulatory Policy Act of 1978 (PURPA), and believes that the project meets the definition under § 292.202(p) of 18 CFR for a new dam or diversion. As such, the U.S. Fish and Wildlife Service, the National Marine Fisheries Service, and the state agency exercising authority over the fish and wildlife resources of the state have mandatory conditioning authority under the procedures provided for at § 30(c) of the Federal Power Act (Act).

p. A license applicant must file no later than 60 days following the date of issuance of this notice: (1) A copy of the water quality certification; (2) a copy of the request for certification, including proof of the date on which the certifying agency received the request; or (3) evidence of waiver of water quality certification.

q. Procedural schedule: The application will be processed according to the following revised Hydro Licensing Schedule. Further revisions to the schedule will be made as appropriate.

Milestone | Target date
Filing comments, recommendations, terms and conditions, and preliminary fishway prescriptions | November 2019.
Commission issues EA | June 2020.
Comments on EA due | July 2020.

r. Final amendments to the application must be filed with the Commission no later than 30 days from the issuance date of this notice.

Dated: September 13, 2019.
Kimberly D. Bose,
Secretary.

[FR Doc. 2019-20264 Filed 9-18-19; 8:45 am]

BILLING CODE 6717-01-P